DEPARTMENT OF DEFENSE

Department of the Army

Government Owned Invention Available for Licensing, United States Patent, No. 7,837,654, Issued 23 Nov 2010, Entitled “Precision Sensing and Treatment Delivery Device for Promoting Healing in Living Tissue”

AGENCY: Department of the Army, DoD.

SUMMARY: The Department of the Army is interested in granting an exclusive or partially exclusive license to U.S. Patent 7,837,654 for ”Precision Sensing and Treatment Delivery Device for Promoting Healing in Living Tissue” to a licensee meeting the requirements of 35 USC 209.

DATES: Written inquiries must be filed not later than 30 days following publication of this announcement.

ADDRESSES: Commander, U.S. Army Research Development and Engineering Command, ATTN: RDMR-S3I-CST, Bldg 5400, Redstone Arsenal, AL 35898-5000.

FOR FURTHER INFORMATION CONTACT: Ms. Cindy Wallace, Office of Research & Technology Applications, (256) 313-0895, email: cindy.wallace@us.army.mil.

SUPPLEMENTARY INFORMATION: The invention relates to a micro-needle insertable in a targeted cell tissue application. More specifically, the invention is a more efficient tool for biopsies in the health arena. The instrument assists in biopsies related to treating and healing living tissue.

Brenda S. Bowen,
Army Federal Register Liaison Officer.

[FR Doc. 2013-24870 Filed 10-23-13; 8:45 am]

BILLING CODE 3710-08-P